DEPARTMENT OF ENERGY

Federal Energy Regulatory Commission

[Docket Nos. EC06-91-000, et al.]

United States Power Fund, II, L.P. et al.; Electric Rate and Corporate Filings

March 15, 2006.

The following filings have been made with the Commission. The filings are listed in ascending order within each docket classification.

1. United States Power Fund II, L.P.; USPF II Institutional Fund, L.P.; Northbrook Carolina Hydro, LLC; Northbrook Acquisition Corporation

[Docket No. EC06-91-00]

Take notice that on March 10, 2006, United States Power Fund, L.P., USPF II Institutional Fund, L.P., Northbrook Carolina Hydro, LLC, and Northbrook Acquisition Corporation filed an application, pursuant to section 203 of the Federal Power Act, for authorizations for an indirect merger with Northbrook Carolina Hydro, LLC and North Acquisition Corp. that together own or control fourteen hydroelectric generating facilities that are qualifying facilities pursuant to part 292 of the regulations.

Comment Date: 5 p.m. Eastern Time on March 31, 2006.

2. Tomen Corporation, and Toyota Tsusho Corporation

[Docket No. EC06-92-000]

Take notice that on March 10, 2006, Toyota Tsusho Corporation and Tomen Corporation (the Applicants), submitted an application pursuant to section 203 of the Federal Power Act, seeking authorization for a merger of holding companies in a holding company system that includes a transmitting utility or an electric utility company (the Transaction). Applicants state that the Transaction has no effect on competition, rates or regulation, does not result in cross-subsidization and is in the public interest.

Comment Date: 5 p.m. Eastern Time on March 31, 2006.

3. Southwestern Power Administration

[Docket No. EF06-4011-000]

Take notice that on February 3, 2006, the Administrator of the Southwestern Power Administration, U.S. Department of Energy, submitted to the Federal Energy Regulatory Commission a memorandum advising the Commission that the Administrator approved and implemented a Discretionary Purchased Power Adder Adjustment to the Purchased Power Adder based on the formula included in Southwestern's Rate Schedules.

Comment Date: 5 p.m. Eastern Time on March 27, 2006.

4. Indeck Energy Services of Silver Springs, Inc.

[Docket No. EG06-39-000]

Take notice that on March 10, 2006, Indeck Energy Services of Silver Springs, Inc. filed with the Commission an Application for Market-Based Rate Authority pursuant to section 205 of the Federal Power Act.

Comment Date: 5 p.m. Eastern Time on March 31, 2006.

5. Indeck Energy Services of Silver Springs, Inc.

[Docket No. EG06-40-000]

Take notice that on March 10, 2006, Indeck Energy Services of Silver Springs, Inc. filed with the Commission a Notice of Self Certification of Exempt Wholesale Generator Status pursuant to section 366.7 of the Commission's regulations, as recently promulgated in Order No. 667.

Comment Date: 5 p.m. Eastern Time on March 31, 2006.

6. Pacficorp

[Docket No. ER04-439-003]

Take notice that on August 10, 2004, Pacificorp filed a clean version of its Open Access Transmission Tariff sheets, Substitute Revised Sheet Nos. 165 through 234 to its 4th Revised Electric Tariff Vol. No. 11, pursuant to the Commission's July 30, 2004 Order.

Comment Date: 5 p.m. Eastern Time on March 27, 2006.

7. Macquarie Bank Limited, and Its Direct and Indirect Holding Company Subsidiaries and Managed Entities

[Docket No. PH06-22-000]

Take notice that on March 9, 2006, Macquarie Bank Limited, and Its Direct and Indirect Holding Company Subsidiaries and Managed Entities, filed a Notice of Exemption from the Requirements of The Public Utility Holding Company Act of 2005 pursuant to 18 CFR 366.3(b) and 366.4(b) of the Commission's regulations.

Comment Date: 5 p.m. Eastern Time on March 30, 2006.

8. IPALCO Enterprises, Inc.

[Docket No. PH06-23-000]

Take notice that on March 9, 2006, IPALCO Enterprises, Inc. filed a Petition for Waiver of the Requirements of The Public Utility Holding Company Act of 2005, pursuant to 18 CFR 366.3(c) and 366.4(c) of the Commission's regulations on the basis that it is a single state holding company.

Comment Date: 5 p.m. Eastern Time on March 30, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-4137 Filed 3-21-06; 8:45 am]

BILLING CODE 6717-01-P